DEPARTMENT OF TRANSPORTATION

Federal Transit Administration

Fiscal Year 2007 Annual List of Certifications and Assurances for Federal Transit Administration Grants and Cooperative Agreements

AGENCY: Federal Transit Administration, DOT.

ACTION: Notice.

SUMMARY: Appendix A of this Notice contains the Federal Transit Administration's (FTA) comprehensive compilation of the certifications and assurances for Federal fiscal year 2007 to be used in connection with all Federal assistance programs that FTA administers during Federal fiscal year 2007. FTA is required by 49 U.S.C. 5323(n) to compile an annual list of certifications and assurances and publish them as required by 49 U.S.C. 5536(d)(2). FTA's annual certifications and assurances have been revised to accommodate statutory, regulatory, and programmatic changes not in effect.

DATES: Effective Date: These certifications and assurances were effective on October 1, 2006, the first day of Federal fiscal year 2007.

FOR FURTHER INFORMATION CONTACT: FTA staff in the appropriate Regional Office listed below. For copies of other related documents, see the FTA Web site at http://www.fta.dot.gov or contact FTA's Office of Administration at (202) 366-4022.

Region 1: Boston

States served: Connecticut, Maine, Massachusetts, New Hampshire, Rhode Island, and Vermont, Telephone # 617-494-2055.

Region 2: New York

States served: New York, New Jersey, and the Virgin Islands, Telephone # 212-668-2170.

Region 3: Philadelphia

States served: Delaware, District of Columbia, Maryland, Pennsylvania, Virginia, and West Virginia, Telephone # 215-656-7100.

Region 4: Atlanta

States served: Alabama, Florida, Georgia, Kentucky, Mississippi, North Carolina, Puerto Rico, South Carolina, and Tennessee, Telephone # 404-562-3500.

Region 5: Chicago

States served: Illinois, Indiana, Michigan, Minnesota, Ohio, and Wisconsin, Telephone # 312-353-2789.

Region 6: Dallas/Ft. Worth

States served: Arkansas, Louisiana, Oklahoma, Texas, and New Mexico, Telephone # 817-978-0550

Region 7: Kansas City

States served: Iowa, Kansas, Missouri, and Nebraska, Telephone # 816-329-3920.

Region 8: Denver

States served: Colorado, Montana, North Dakota, South Dakota, Utah, and Wyoming, Telephone # 720-963-3300.

Region 9: San Francisco

States served: Arizona, California, Hawaii, Nevada, Guam, American Samoa, and the Northern Mariana Islands, Telephone # 415-744-3133.

Region 10: Seattle

States served: Alaska, Idaho, Oregon, and Washington, Telephone # 206-220-7954.

SUPPLEMENTARY INFORMATION: Before FTA may award Federal financial assistance through a Federal grant or cooperative agreement, the Applicant must submit all certifications and assurances pertaining to itself and its project as required by Federal laws and regulations. These certifications and assurances must be submitted to FTA irrespective of whether the project is financed under the authority of 49 U.S.C. chapter 53, or Title 23, United States Code, or another Federal statute.

The Applicant's annual certification and assurances for Federal fiscal year 2007 cover all projects for which the Applicant seeks funding during Federal fiscal year 2007 through the next fiscal year until FTA issues its annual certifications and assurances for Federal fiscal year 2008. An Applicant's annual certifications and assurances applicable to a specific grant or cooperative agreement generally remain in effect for either the duration of the grant or cooperative agreement to project closeout or the duration of the project or project property when a useful life or industry standard is in effect, whichever occurs later; except, if the Applicant provides certifications and assurances in a later year that differ from certifications and assurances previously provided, the later certifications and assurances will apply to the grant, cooperative agreement, project, or project property, unless FTA permits otherwise.

Background: Since Federal fiscal year 1995, FTA has been consolidating the various certifications and assurances that may be required of its Applicants and their projects into a single document for publication in the Federal Register. FTA intends to continue publishing this document annually, often in conjunction with its publication of the FTA annual apportionment notice, which sets forth the allocations of funds made available by the latest U.S. Department of Transportation (U.S. DOT) annual appropriations act.

Effect of the Certifications and Assurances: In view of the many projects that will be implemented substantially by a subrecipient of the Applicant, FTA cautions the Application that, absent a written determination by FTA to the contrary, the Applicant will be responsible for compliance both by itself and by each of its subrecipients with all certifications and assurances the Applicant has selected that would involve the subrecipient or the subrecipient's activities with respect to the project. Thus, the Applicant itself is ultimately responsible for compliance with its certifications even though a project may be carried out in whole or in part by one or more subrecipients. Consequently, in providing certifications and assurances that involve the compliance of any prospective subrecipient, the Applicant is strongly encouraged to take the appropriate measures, including but not limited to, obtaining sufficient documentation from each subrecipient to assure the validity of the certifications and assurances the Applicant has made.

Federal Fiscal Year 2007 Changes: Apart from minor editorial revisions, significant changes to FTA's certifications and assurances for Federal fiscal year 2007 are set forth below:

(1) In the Introductory paragraphs preceding the text of the certifications and assurances, the FTA Web Site for the FTA Master Agreement for Federal fiscal year 2007 is http://www.fta.dot.gov/documents/13-Master.doc.

(2) Subcategories 01.F(5)(e), (f), and (g) have been amended to substitute updated citations for the Drug Abuse Office and Treatment Act of 1972, as amended, 21 U.S.C. 1101 et seq., the Comprehensive Alcohol Abuse and Alcoholism Prevention Act of 1970, as amended, 42 U.S.C. 4541 et seq., and the Public Health Service Act of 1912, as amended, 42 U.S.C. 201 et seq.

(3) In Category 06, a provision is added to alert the Applicant of changes to the Pre-Award and Post-Delivery requirements for rolling stock set forth in section 3023(k) of SAFETEA-LU that have not as of October 1, 2006 been incorporated in FTA's implementing regulations at 49 U.S.C. part 663.

(4) In category 15, the following changes have been made:

(a) A Statement has been added reminding each Applicant for Urbanized Area Formula Assistance that in addition to making its certification required by 49 U.S.C. 5307(d)(1)(J) that it will expend at least one (1) percent of its Urbanized Area Formula Program assistance for public transportation security projects unless it has certified to FTA that such expenditures are not necessary, the Applicant also will need to disclose its decision in the “Security” tab page of the TEAM-Web “Project Information” window.

(b) Subcategory K has been amended to permit a single Designated Recipient of Urbanized Area Formula assistance to indicate that an agreement has been reached among some or all of the Designated Recipients in a single urbanized area of more than 200,000 population to certify that no less than 1 percent of section 5307 funds apportioned by FTA to that urbanized area among those Designated Recipients will be used for transit enhancements as provided by 49 U.S.C. 5307(d)(1)(K)(i) and to submit the report with the list of transit enhancement projects implemented by those Designated Recipients as required by 49 U.S.C. 5307(d)(1)(K)(ii). Should it wish to do so, a single Designated Recipient, however, may expend one (1) per cent of its section 5307 funds for transit enhancements and submit its own report listing the transit enhancement projects it has implemented in the last fiscal year as required by 49 U.S.C. 5307(d)(1)(K)(ii). The Designated Recipient generally sets forth this information in its quarterly report for the fourth quarter of the preceding Federal fiscal year; thus that quarterly report will be incorporated by reference and made part of the Designated Recipient's certifications and assurances. A Designated Recipient that prepares a report on behalf of some or all other Designated Recipients in its urbanized area will need to provide a copy of its report to the other Designated Recipients on whose behalf the report is prepared.

(5) Category 16 has been amended to add a certification at Subcategory J that vehicles financed under the Clean Fuels Grants Program will be operated using only clean fuels, and “clean diesel” buses financed under that program will be operated using only ultra-low sulfur diesel fuel.

(6) In Category 17, the following changes have been made:

(a) In Subcategory A, the United States Code note reference for the Elderly Individuals and Individuals with Disabilities Pilot Program has been added.

(b) In Subcategory F, the subject selection and planning certification requirements that were effective for the Elderly Individuals and Individuals with Disabilities Pilot Program required by section 3012(b)(2) of SAFETEA-LU beginning in Federal fiscal year 2006 are not applicable to the Elderly Individuals and Individuals with Disabilities Program, as required by 49 U.S.C. 5310(d)(2)(B).

(7) Category 18 has been amended to clarify that certifications and assurances for the Nonurbanized Area Formula Program do not apply to an Indian tribe that is an Applicant for Tribal Transit Program assistance under 49 U.S.C. 5311(c)(1), and that FTA has prepared separate certifications and assurances for that program.

(8) Category 19 has been amended to add a new certification requiring the chief executive officer of the state, or his or her designee to certify to the Federal Transit Administrator, apart from these annual certifications, that all of the objectives of 49 U.S.C. 5316 are being met in the area from which such funding would be derived before using JARC funds to support projects in areas other than those designated in 49 U.S.C. 5316.

(9) In Subcategory 20.E, the project selection and planning certification requirements of 49 U.S.C. 5317(f)(3) have been added.

Text of Federal Fiscal Year 2007 Certifications and Assurances: The text of the certifications and assurances in Appendix A of this Notice appears at http://www.fta.dot.gov/documents/2007-Certs-Appendix A.doc. It also appears in TEAM-Web in the “Recipients” option of the Cert's & Assurances tab of “View/Modify Recipients.” It is important that each Applicant be familiar with all twenty-three (23) certification and assurance categories and their provisions, as they may be a prerequisite for receiving FTA financial assistance. Provisions of this Notice supersede conflicting statements in any FTA circular containing a previous version of FTA's annual certifications and assurances. The certifications and assurances contained in those FTA circulars are merely examples, and are not acceptable or valid for Federal fiscal year 2007; do not rely on the provisions of certifications and assurances appearing in FTA circulars.

Significance of Certification and Assurances: Selecting and submitting certifications and assurances to FTA, either through TEAM-Web or submission of the Signature Page(s) of Appendix A, signifies the Applicant's intent to comply with and secure compliance by its subrecipients, if any, with the provisions of the certifications and assurances it has selected to the extent they apply to a project for which the Applicant submits an application for assistance in Federal Register fiscal year 2007. FTA cautions, however, that certifications and assurances required by law and regulation do not address all Federal laws, regulations, or directives with which an Applicant must comply before FTA may award Federal financial assistance. We therefore strongly encourage the Applicant to review the Federal authorizing legislation, regulations, and directives pertaining to the program or programs for which the Applicant seeks Federal assistance to determine the extent of all pre-award laws, regulations, or directives applicable to those programs.

Attorney's Affirmation: FTA requires a current (Federal fiscal year 2007) affirmation, signed by the Applicant's attorney, of the Applicant's legal authority to certify compliance with the provisions of the certifications and assurances the Applicant has selected. Irrespective of whether the Applicant makes a single selection for all twenty-three (23) categories or selects individual options from the twenty-three (23) categories, the Affirmation of Applicant's Attorney from a previous year is not acceptable, unless FTA expressly determines otherwise in writing.

Deadline for Submission: All Applicants for FTA formula program or capital investment program assistance, and current FTA grantees with an active project financed with FTA formula program or capital investment program assistance, are expected to provide certifications and assurances for Federal fiscal year 2007 within 90 days from the date of this publication or as soon as feasible after their first grant application for funds authorized or made available during Federal fiscal year 2007, whichever is earlier. In addition, FTA encourages Applications seeking Federal financial assistance for other projects to submit their certifications and assurances as soon as possible.

Preference for Electronic Submission: Applicants registered in TEAM-Web must submit their certifications and assurances, as well as their applications for Federal assistance in TEAM-Web. Only if an Applicant is unable to submit its certification and assurances in TEAM-Web should the Applicant use the Signature Page(s) in Appendix A of this Notice. While not mandatory, FTA encourages an Applicant that does not submit its certifications and assurances electronically to scan a copy of its certifications and assurances document and attach it in TEAM-Web. Likewise, if the Applicant's attorney has not submitted its affirmation in TEAM, FTA encourages the Application to scan that affirmation and attach it in TEAM-Web.

Procedures for Electronic Submission: The TEAM-Web “Recipients” option at the “Cert's & Assurances” tab of “View/Modify Recipients” contains fields for selecting among the twenty-three (23) Categories of certifications and assurances to be submitted. Within that tab is a field for the Applicant's authorized representative to enter its personal identification number (PIN), which constitutes the Applicant's electronic signature for the certifications and assurances it has selected. In addition, there is a field for the Applicant's attorney to enter his or her PIN, affirming the Applicant's legal authority to make and comply with the certifications and assurances the Applicant has selected. In certain circumstances, the Applicant may enter its PIN in lieu of its Attorney's PIN, provided that the Applicant has on file the Affirmation of Applicant's Attorney in Appendix A of this Notice, written and signed by the attorney and dated this Federal fiscal year. For more information, Applicants may contact the appropriate Regional Office listed in this Notice or the TEAM-Web Helpdesk.

Procedures for Paper Submission: If an Applicant is unable to submit its certifications and assurances electronically, it must mark the certifications and assurances it is making on the Signature Page(s) in Appendix A of this Notice and submit it to FTA. The Applicant may signify compliance with all Categories by placing a single mark in the appropriate space or select the Categories applicable to itself and its projects. In certain circumstances, the Applicant may enter its signature in lieu of its Attorney's signature in the Affirmation of Applicant's Attorney section of the Signature Page(s), provided that the Applicant has on file the Affirmation of Applicant's Attorney in Appendix A of this Notice, written and signed by the attorney and dated in this Federal fiscal year 2007, and has submitted a copy of this affirmation to FTA. For more information, Applicants may contact the appropriate Regional Office listed in this Notice.

References. 49 U.S.C. chapter 53; the Safe, Accountable, Flexible, Efficient Transportation Equity Act: A Legacy for Users (SAFETEA-LU); Title 23, United States Code (Highways); other Federal laws administered by FTA; U.S. DOT and FTA regulations at Title 49, Code of Federal Regulations; and FTA Circulars.

Dated: November 2, 2006.
James S. Simpson,
Administrator.

BILLING CODE 4910-57-M

[FR Doc. 06-9103 Filed 11-6-06; 8:45 am]

BILLING CODE 4910-57-C